DEPARTMENT OF THE INTERIOR

National Park Service

[NPS-WASO-NAGPRA-22419; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Peabody Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Peabody Museum of Natural History at the address in this notice by January 3, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from the tundra surface near Barrow, North Slope Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Peabody Museum of Natural History professional staff in consultation with representatives of the Native Village of Barrow Inupiat Traditional Government. Attempts to contact the Inupiat Community of the Arctic Slope went unanswered.

History and Description of the Remains

In 1957, human remains representing, at minimum, 14 individuals were removed from the tundra surface near Barrow in North Slope Borough, AK. The remains were collected and donated to the Peabody Museum of Natural History in 1957. The human remains represent four adult, probable male individuals, eight adult, probable female individuals, and two adult individuals of indeterminate sex. No known individuals were identified. No associated funerary objects are present.

The osteological data as well as the burial context support the identification of these individuals as Native Alaskan. The collector's description of the archaeological context supports an historic date for these burials. The city of Barrow and vicinity is documented as being inhabited by the Inupiat people during the historic era. The Inupiat people in this region are represented by the Native Village of Barrow Inupiat Traditional Government. During consultation, a representative of the Native Village of Barrow Inupiat Traditional Government confirmed the tribe's cultural affiliation to these human remains.

Determinations Made by the Peabody Museum of Natural History

Officials of the Peabody Museum of Natural History have determined that:

• Pursuant to 25 U.S.C. 3001(9), the human remains described in this notice represent the physical remains of fourteen individuals of Native American ancestry.

• Pursuant to 25 U.S.C. 3001(2), there is a relationship of shared group identity that can be reasonably traced between the Native American human remains and the Native Village of Barrow Inupiat Traditional Government.

Additional Requestors and Disposition

Lineal descendants or representatives of any Indian tribe or Native Hawaiian organization not identified in this notice that wish to request transfer of control of these human remains should submit a written request with information in support of the request to Professor David Skelly, Director, Yale Peabody Museum of Natural History, P.O. Box 208118, New Haven, CT 06520-8118, telephone (203) 432-3752, by January 3, 2017. After that date, if no additional requestors have come forward, transfer of control of the human remains to the Native Village of Barrow Inupiat Traditional Government may proceed.

The Peabody Museum of Natural History is responsible for notifying the Native Village of Barrow Inupiat Traditional Government that this notice has been published.

Dated: November 15, 2016.
Melanie O'Brien,
Manager, National NAGPRA Program.

[FR Doc. 2016-28947 Filed 12-1-16; 8:45 am]

BILLING CODE 4312-52-P